ENVIRONMENTAL PROTECTION AGENCY

[FRL-6706-8]

National Drinking Water Advisory Council; Notice of Open Meeting

AGENCY: Environmental Protection Agency (EPA).

ACTION: Notice.

SUMMARY: Under section 10(a)(2) of Public Law 92-423, “The Federal Advisory Committee Act,” notice is hereby given that a meeting of the National Drinking Water Advisory Council established under the Safe Drinking Water Act, as amended (42 U.S.C. S300f et seq.), will be held on June 14, 2000, from 12 Noon until 1 p.m. (Mountain Time Zone) at the Denver Convention Center, Room A208, 700 14th Street, Denver, Colorado 90202. Some members of the Council will be participating by conference call. The meeting is open to the public, but due to past experience, seating will be limited.

The purpose of the meeting is to provide the Council with the recommendations from the Contaminant Candidate List/Six Year Review Working Group. The Council will also provide its recommendations on the Proposed Long Term 1 Enhanced Surface Water Treatment & Filter Backwash Rule, a discussion begun at the May 10 and 11, 2000, meeting in San Francisco, California. The Council encourages the hearing of outside statements and will allocate, if time permits, ten minutes at the meeting for this purpose. Any outside parties interested in presenting an oral statement should petition the Council by telephone at (202) 260-2285, before June 7, 2000.

Any person who wishes to file a written statement can do so before or after a Council meeting. Written statements received prior to the meeting will be distributed to all members of the Council before any final discussion or vote is completed. Any statements received after the meeting will become part of the permanent meeting file and will be forwarded to the Council members for their information.

Members of the public that would like to attend the meeting, present an oral statement, or submit a written statement, should contact Ms. Charlene Shaw, Designated Federal Officer, National Drinking Water Advisory Council, U.S. EPA, Office of Ground Water and Drinking Water (4601), 1200 Pennsylvania Avenue, NW, Washington, DC 20460. The telephone number is Area Code (202) 260-2285 or E-Mail shaw.charlene@.epa.gov.

Dated: May 23, 2000.
Cynthia C. Dougherty,
Director, Office of Ground Water and Drinking Water.

[FR Doc. 00-13460 Filed 5-26-00; 8:45 am]

BILLING CODE 6560-50-P